DEPARTMENT OF COMMERCE

National Oceanic and Atmospheric Administration

RIN 0648-XF788

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Team will meet November 13 through November 17, 2017.

DATES: The meeting will be held on Monday, November 13, 2017 to Friday, November 17, 2017, from 9 a.m. to 5 p.m. Pacific Time.

ADDRESSES: The meeting will be held at the Alaska Fishery Science Center, Traynor Room 2076, 7600 Sand Point Way NE., Building 4, Seattle, WA 98115.

Council address: North Pacific Fishery Management Council, 605 W. 4th Ave., Suite 306, Anchorage, AK 99501-2252; telephone: (907) 271-2809.

FOR FURTHER INFORMATION CONTACT: Diana Stram or Jim Armstrong, Council staff; telephone: (907) 271-2809.

SUPPLEMENTARY INFORMATION:

Agenda

Monday, November 13 to Friday, November 17, 2017

The Plan Teams will compile and review the annual Groundfish Stock Assessment and Fishery Evaluation (SAFE) reports, (including the Economic Report, the Ecosystems/assessment and status report, and the stock assessments for BSAI and GOA groundfishes), and recommend final groundfish harvest specifications for 2017/2018.

The Agenda is subject to change, and the latest version will be posted at http://www.npfmc.org/fishery-management-plan-team/goa-bsai-groundfish-plan-team/.

Special Accommodations

These meetings are physically accessible to people with disabilities. Requests for sign language interpretation or other auxiliary aids should be directed to Shannon Gleason at (907) 271-2809 at least 7 working days prior to the meeting date.

Dated: October 20, 2017.
Tracey L. Thompson,
Acting Deputy Director, Office of Sustainable Fisheries, National Marine Fisheries Service.

[FR Doc. 2017-23190 Filed 10-24-17; 8:45 am]

BILLING CODE 3510-22-P